DEPARTMENT OF TRANSPORTATION

Pipeline and Hazardous Materials Safety Administration

[Docket No. PHMSA-2014-0092]

Pipeline Safety: Request for Revision of a Previously Approved Information Information Collection: National Pipeline Mapping System Program

AGENCY: Pipeline and Hazardous Materials Safety Administration (PHMSA), DOT.

ACTION: Notice and request for comments.

SUMMARY: In compliance with the Paperwork Reduction Act of 1995 (44 U.S.C. 3501 et seq.), this notice announces that the Information Collection Request, abstracted below, is being forwarded to the Office of Management and Budget (OMB) for review. On August 27, 2015, (79 FR 44246), PHMSA published a notice and request for comments in the Federal Register titled: “Pipeline Safety: Request for Revision of a Previously Approved Information Collection: National Pipeline Mapping System (NPMS) Program (OMB Control No. 2137-0596),” seeking comments on proposed changes to the NPMS data collection. During the comment period, which was extended until November 25, 2015, PHMSA received many comments on ways to improve this data collection. We are publishing this notice to address the comments received and to announce our proposed path forward.

DATES: Written comments on this information collection should be submitted by July 22, 2016.

ADDRESSES: Please send comments regarding this information collection request, including suggestions for reducing the burden, to OMB, Attention: Desk Officer for PHMSA, 725 17th Street NW., Washington, DC 20503.

FOR FURTHER INFORMATION CONTACT: Amy Nelson, GIS Manager, Program Development Division, U.S. Department of Transportation, 1200 New Jersey Avenue SE., Washington, DC 20590, by phone at 202-493-0591, or email at amy.nelson@dot.gov.

SUPPLEMENTARY INFORMATION:

I. Background

II. Modified or Dropped Attributes

A. Positional Accuracy

B. Highest Percent Operating Specified Minimum Yield Strength

C. Decade of Installation

D. Year of Last Corrosion, Dent, Crack, and Other ILI Inspections

E. Coated/Uncoated and Cathodic Protection

F. Type of Coating

G. Year of Original Pressure Test and Its Pressure

H. Year of Last Pressure Test and Its Pressure

I. Gas Storage Fields

III. Retained Attributes

A. Pipe Diameter

B. Wall Thickness

C. Commodity Detail

D. Pipe Material

E. Pipe Grade

F. Pipe Join Method

G. Seam Type

H. Onshore/Offshore

I. Inline Inspection (Yes/No)

J. Class Location

K. Gas HCA Segment

L. Segment Could Affect a High Consequence Area

M. Facility Response Plan Sequence Number

N. Abandoned Pipelines

O. Maximum Allowable Operating Pressure/Maximum Operating Pressure

P. Pump and Compressor Stations

Q. Mainline Block Valves

R. Breakout Tanks

S. Additional Liquefied Natural Gas Plant Attributes

IV. General Comments

A. Reporting

B. Burden

C. Legality

D. Data Security

E. Industry Counter-Proposals

F. Mandates and Recommendations

G. Definitions

V. Timeline for Collection of New Data Elements

A. Phase 1 Data Elements

B. Phase 2 Data Elements

C. Phase 3 Data Elements

VI. Summary of Impacted Collection

I. Background

On July 30, 2014, (79 FR 44246) PHMSA published a notice and request for comments in the Federal Register titled: “Pipeline Safety: Request for Revision of a Previously Approved Information Collection: National Pipeline Mapping System (NPMS) Program (OMB Control No. 2137-0596)” seeking comments on proposed changes to the NPMS data collection. Within this notice, PHMSA laid out its intentions to revise the currently approved NPMS data collection to expand the data attributes collected and to improve the positional accuracy of NPMS submissions. On November 17, 2014, (79 FR 65295), PHMSA held a public meeting to grant the public an opportunity to learn more about PHMSA's proposal, to ask pertinent questions about the collection, and to offer suggestions regarding the path forward. Details about the meeting, including copies of the meeting's presentation files, can be found at: http://primis.phmsa.dot.gov/meetings/MtgHome.mtg?mtg=101. PHMSA encouraged participants of the meeting to submit comments on the proposed attributes to docket PHMSA-2014-0092. During the 60-day comment period, PHMSA received input from 28 different commenters comprised of pipeline operators, industry and interest groups, and the general public.

On August 27, 2015, (80 FR 52084) PHMSA published another notice in the Federal Register to address the many comments received and to request additional comments on the revised path forward. During this subsequent comment period, PHMSA received feedback and several suggestions on how to improve the quality and efficiency of this information collection. Commenters included:

AGA—American Gas Association

APGA—American Public Gas Association

API/AOPL—American Petroleum Institute/Association of Oil Pipelines

CPL—Chevron Pipeline Company

DOMAC—Distrigas of Massachusetts LLC

ETP—Energy Transfer Partners

GPA—Gas Processors Association

INGAA

John Russell

Lilah Haxton

MidAmerican Energy Company

Molly Wolf

NiSource Inc.

Northern Natural Gas Company

PST—Pipeline Safety Trust

SEP—Spectra Energy Partners

Southwest Gas Association

Tim Ligon

TPA—Texas Pipeline Association

TRANSCANADA CORP

A public meeting was also held on September 10, 2015, (80 FR 52084) and a technical workshop on November 25, 2015, (80 FR 65286). The purpose of the second public meeting and the technical workshop was to grant the public further opportunities to learn about PHMSA's proposal, to ask pertinent questions about the collection, and to offer suggestions regarding the path forward. Details about the second public meeting and the public workshop can be found at: https://primis.phmsa.dot.gov/meetings/MtgHome.mtg?mtg=106.

PHMSA is publishing this notice to address and respond to the comments received. Please note that technical details pertaining to the new data elements such as domains and reporting requirements for each attribute can be found in the NPMS Operator Standards Manual, (30-Day Notice Version), which is attached to the docket.

The data being requested is the first substantial update to NPMS submission requirements since the NPMS standards were developed in 1998. The NPMS is PHMSA's only dataset which tracks where pipe characteristics occur, instead of how much/how many of those characteristics are in PHMSA's regulated pipelines. PHMSA seeks to reduce duplication and will consider the impact on the tabular data submitted through the annual reports once the data elements described in this notice are being collected. In PHMSA's last Congressional reauthorization, Section 60132(a) stated that PHMSA has the power to collect “any other geospatial or technical data, including design and material specifications, which the Secretary determines are necessary to carry out the purposes of this section. The Secretary shall give reasonable notice to operators that the data are being requested.” The National Transportation Safety Board (NTSB) recommendation P-11-8 states that PHMSA should “require operators of natural gas transmission and distribution pipelines and hazardous liquid pipelines to provide system-specific information about their pipeline systems to the emergency response agencies of the communities and jurisdictions in which those pipelines are located. This information should include pipe diameter, operating pressure, product transported, and potential impact radius.” Other NTSB recommendations are in section 4F with the attributes they address.

Specifically, the new data elements will:

• Aid the industry and all levels of government, from Federal to municipal, in promoting public awareness of hazardous liquid and gas pipelines and in improving emergency responder outreach. Currently, 787 Federal officials, 1,208 state officials and 4,791 county officials have access to the online mapping application. Providing these officials with an improved NPMS, containing system-specific information about local pipeline facilities, can help ensure emergency response agencies and communities are better prepared and can better execute response operations during incidents.

• Permit more powerful and accurate tabular and geospatial analysis, which will strengthen PHMSA's ability to evaluate existing and proposed regulations as well as operator programs and/or procedures.

• Strengthen the effectiveness of PHMSA's risk rankings and evaluations, which are used as a factor in determining pipeline inspection priority and frequency.

• Allow for more effective assistance to emergency responders by providing them with a more reliable, complete dataset of pipelines and facilities.

• Provide better support to PHMSA's inspectors by providing more accurate pipeline locations and additional pipeline-related geospatial data that can be linked to tabular data in PHMSA's inspection database.

• Better support PHMSA's research and development programs by helping to predict the impact of new technology on regulated pipelines.

II. Modified or Dropped Attributes

PHMSA received wide-ranging comments that provided various points of view on the proposed attributes and the effect the collection of this data would have on the pipeline safety program, the pipeline industry, and the general public. After much consideration, PHMSA will modify or drop the following attributes, standards or components at this time: Positional accuracy, Highest percent operating Specified Maximum Yield Strength, Decade of Installation, Year of last corrosion, dent, crack, and other ILI inspections, Coated/uncoated and cathodic protection, Type of coating, Year of original pressure test and its pressure, Year of last pressure test and its pressure, and Gas Storage Fields. PHMSA reserves the right to reconsider these attributes in the future. Complete details on all of the attributes, (such as format, choices, and whether it is a required attribute), can be found in Appendix A of the draft NPMS Operator Standards Manual, which is attached to the docket.

A. Positional Accuracy

This data element will be modified from the 2015 notice. In the 2015 notice, PHMSA proposed that hazardous liquid pipeline operators submit data with a positional accuracy of +/− 50 feet. Gas transmission operators would be required to submit data at +/− 50 feet accuracy for all segments which are in a Class 2, Class 3, or Class 4 area; are within a HCA or have one or more buildings intended for human occupancy; an identified site (See § 192.903); a right-of-way for a designated interstate; freeway, expressway, or other principal 4-lane arterial roadway as defined in the Federal Highway Administration's “Highway Functional Classification Concepts” within its potential impact radius. All other gas pipeline segments were requested to be mapped to a positional accuracy of +/− 100 feet. Multiple commenters noted that the reference GIS layer supplied to determine the “right-of-way for a designated interstate; freeway, expressway, or other principal 4-lane arterial roadway as defined in the Federal Highway Administration's `Highway Functional Classification Concepts' within its potential impact radius” was spatially inaccurate and could not be relied upon to definitively designate the right-of-way. PHMSA conducted a close examination of the reference layer and came to the same conclusion. Therefore, the positional accuracy definition is modified to read as follows:

Hazardous liquid pipeline operators must submit data with a positional accuracy of +/− 50 feet. Gas transmission operators must submit data at +/− 50 feet accuracy for all segments which are in a Class 2, Class 3, or Class 4 area; are within a HCA or have one or more buildings intended for human occupancy or an identified site, (See § 192.903), within its potential impact radius. All other gas pipeline segments must be mapped to a positional accuracy of +/− 100 feet.

Furthermore, multiple commenters requested more time to comply with the new positional accuracy standard. They noted that the most efficient and low-cost method of bringing their data into the new standard is to update centerlines during scheduled in-line inspection (ILI) runs. Commenters from INGAA requested a deadline of 2023 for complying with the new standard. API commenters requested several years to comply, and AGA also requested a seven-year period to bring 100% of pipelines into the proposed accuracy standard. PHMSA seeks to reduce the burden on operators to comply with this standard, and therefore requires all pipelines submitted to the NPMS have the stated new positional accuracy by the operator's 2024 submission (reflecting data as of 12/31/2023). Operators may submit their centerlines with the new accuracy standard earlier if some or all of their centerlines have been brought into the new standard. To clarify, part of an operator's yearly submission prior to 2024 may comply with the new 50/100 foot standard, while part retains the current 500 foot standard.

B. Highest Percent Operating Specified Maximum Yield Strength

This data element will be modified from the 2015 notice, which defined this data element as “hoop stress corresponding to the maximum operating pressure (MOP) or maximum allowable operating pressure (MAOP) as a percentage of Specified Minimum Yield Strength (SMYS). Report with up to one decimal place.” Commenters argued that PHMSA can calculate this data element with the MAOP/MOP attribute plus pipe grade. However, this is not true in all cases. Where the allowable operating pressure differs from the actual operating pressure, or when the pipe is of unknown or unlisted specification, percent SMYS cannot be calculated. This data element is valuable to PHMSA as it helps show where the pipe material is stressed. PHMSA has a need to see where this attribute changes from year to year to help with risk ranking and inspection planning. This attribute will be changed to the following: Percent SMYS: Hoop stress corresponding to the maximum operating pressure (MOP) or maximum allowable operating pressure (MAOP) as a percentage of SMYS. Choose one of the following categories: L20 = <20%; L30 = ≥20% and <30%; L40 = ≥30% and <40%; L50 = ≥40% and <50%; L60 = ≥50% and <60%; L72 = ≥60% and <72%; L80 = ≥72% and <80%; G80 = >80%. Also, note that this new data element will eliminate the need for the “low-stress” existing data element. “Low-stress” will be removed from NPMS submissions. This information when contained in the NPMS system is considered Sensitive Security Information (SSI) per PHMSA's consultations with the Transportation Security Administration (TSA).

C. Decade of Installation

This data element will be modified from the 2015 notice. PHMSA asked operators to submit the “predominant” decade of installation on a pipe segment, signifying 90% or more of the physical pipe represented by the segment. In the comments and in the NPMS Operator Workshop held on November 18, 2015, operators explained that the burden would be lower if they could submit actual values, not predominant values. PHMSA is modifying this attribute to be defined as either actual or predominant, (90% or more of the represented segment), decade of installation.

D. Year of Last Corrosion, Dent, Crack, and Other ILI Inspections

These data elements will be modified from the 2015 notice. Commenters expressed concern about how this element would be used. If a null value was entered because a corrosion/dent/crack/other ILI inspection was not required by regulation, it would be misleading for PHMSA and its partners to view that segment as having increased risk. In order to reduce the burden on operators and accurately evaluate a pipe's condition and risk, PHMSA will create a new attribute which streamlines the information in this data element and in the pressure test elements (see sections H and I). The new elements are as follows: (1) Assessment method for the most recent assessment: ILI = Inline Inspection, DIR = Direct Assessment Method, or PT = Hydrostatic Pressure Test). (2) Assessment Year: 4-digit year of last assessment. These elements are mandatory submissions for pipeline segments that must be assessed per §§ 192 and 195. As described in the NPMS Operator Standards Manual, operators can indicate whether a segment is exempt from assessment, and if more than one assessment method was performed concurrently the last time the segment was assessed, an operator may indicate that in the additional assessment method fields, which are optional.

E. Coated/Uncoated and Cathodic Protection

These data elements will be modified from the 2015 notice. In that notice, PHMSA proposed two related data elements: Coated/uncoated pipe and type of coating. The operator was asked to identify whether the pipe was “effectively” cathodic protection (CP) coated steel, no CP coated steel, CP bare steel, no CP bare steel, or plastic. INGAA requested that this attribute be changed to a yes/no choice to reduce the burden on operators. PHMSA agrees that a yes/no choice is sufficient for its internal needs and for the needs of its stakeholders. Furthermore, PHMSA will remove the word “effectively” from the definition. The new data element is as follows: Whether the pipe is coated (yes/no).

F. Type of Coating

As explained in section F above, this data element will be dropped. Submitting the type of coating increases the burden on operators and PHMSA has determined that this data element is not necessary to serve its internal needs and those of its stakeholders.

G. Year of Original Pressure Test and Its Pressure

This data element will be dropped. As explained in section E, the pressure test and ILI inspection elements are being rolled up into the new Assessment Method element. The original pressure test and its pressure will no longer be required. If the original pressure test was the only assessment performed, it will be submitted as the Assessment Method and its year will be noted in the Assessment Year field. Operators will not be required to research the original pressure test otherwise.

H. Year of Last Pressure Test and Its Pressure

This data element will be modified from the 2015 notice. As explained in section E, the pressure test and ILI inspection elements are being rolled up into the new Assessment Method element. The requirement to always submit the year of the last pressure test has been removed; however, if the method of assessment was a pressure test, the year of the test is required in the Assessment Year field.

I. Gas Storage Fields

This data element will be modified from the 2015 notice. Commenters (Transcanada and Texas Pipeline Association) opposed this data element. AGA requested that the choices for field type be changed to aboveground tanks, underground cavern, depleted reservoir, or aquifer storage. PHMSA accepts the proposal to change the storage field types per AGA's request, but will also include a choice for injection wells. The new choices are noted in the NPMS Operator Standards Manual, Appendix A4. Note that this element when contained in the NPMS system is considered SSI per PHMSA's consultations with TSA.

III. Retained Attributes

After careful consideration of the comments received, along with the agency's pipeline safety goals, PHMSA has decided to move forward with the proposal to collect geospatial data on the following pipeline attributes with no substantial modifications.

A. Pipe Diameter

PHMSA originally proposed requiring operators to submit data on the nominal diameter, also called the nominal pipe size of a pipe segment. Knowing the diameter of a pipeline can help emergency responders determine the impact area of a pipeline in the event of a release. This attribute also gives PHMSA the opportunity to gain a broader understanding of the sizes of pipe being operated in any given geographic region, and to further assess potential impacts to public safety and the environment.

PHMSA received eighteen comments in support of including mandatory reporting of pipe diameter in the information collection. This included industry associations such as INGAA, AGA, API, and AOPL, public interest groups, and individual operators. Most concerns centered on clarification regarding whether PHMSA was requesting nominal pipe size or actual diameter. Nominal pipe size will be collected.

PHMSA proposes to move forward with this attribute as originally proposed. To clarify and be consistent with other reporting methods, diameter will be reported as the Nominal Pipe Size (NPS) of the pipe segment, which is the diameter in whole number inches, (except for pipe less than 5″), used to describe the pipe size, (e.g., 8⅝″ outside diameter pipe has a nominal pipe size of 8). Decimals are not accepted for this measure (except for pipe with an outside diameter less than 5″). The primary benefit for incorporating this attribute is that a larger pipe may pose a greater hazard during a rupture. Knowing the location of large lines in relation to populated areas will help PHMSA effectively prioritize inspections and emergency response planning.

B. Wall Thickness

PHMSA originally proposed to collect data on the nominal wall thickness of a pipe. PHMSA intends to collect this information as originally proposed. Comments received on the last information collection revision include support from Spectra Energy Partners and Transcanada Corporation. AGA opposed collection of wall thickness, claiming it can be derived from SMYS. However, this is not possible when the pipe is of unknown or unlisted specification. Texas Pipeline Association asked that an “unknown” option be added due to data gaps for pre-1970 pipe. PHMSA will add an “unknown” option. API asked whether wall thickness would be required for grandfathered natural gas pipelines, and whether the lowest wall thickness per diameter could be submitted. In this case, operators should choose the lowest wall thickness value for that MAOP/MOP section. Otherwise, operators should submit actual wall thickness values. PHMSA intends to collect this information as originally proposed. For clarification, PHMSA is requesting the nominal wall thickness. PHMSA analysts and inspectors identified this as a fundamental piece of descriptive information for pipeline risk. This information is especially critical for determining the relative risk of corrosion.

C. Commodity Detail

PHMSA proposed operators submit commodity details for pipelines if the transported commodity is crude oil, product or natural gas, and subcategories of each. The list of commodity choices is available in the NPMS Operator Standards Manual (Appendix A). Other choices may be added as the need arises. During the last comment period, supporters of collecting commodity detail included AGA, INGAA, Southwest Gas Association, and Texas Pipeline Association. API/AOPL noted that the specific commodity can change on a daily basis, which could be misleading for emergency responders. PHMSA understands this is the case with many pipelines, and provides three fields, (CMDTY_DTL1, CMDTY_DTL2, and CMDTY_DTL3), to represent up to three specific commodities. The fields COMMODITY and CMDTY_DTL1 should represent the commodity in the pipe on 12/31 of the previous year.

PHMSA will move forward with this collection. This level of detail is required because of potential differences in leak characteristics, rupture-impacted hazardous areas and a pipeline's internal integrity. Emergency responders will also be able to better respond to pipeline incidents if they are prepared for the commodity which is likely being transported.

D. Pipe Material

PHMSA originally proposed that operators submit data on pipe material. Operators will be required to submit data on whether a segment was constructed out of cast iron, plastic, steel, composite, or other material. PHMSA received no opposition from commentators.

PHMSA proposes to move forward with this collection as originally introduced. Knowing the pipe material helps PHMSA determine the level of potential risk from excavation damage and external environmental loads. These can also be factors in emergency response planning.

E. Pipe Grade

PHMSA originally proposed that operators submit information on the predominant pipe grade of a pipeline segment. AGA believed this attribute was redundant because percentage of SMYS captured the risk from pipe grade. Spectra asked that PHMSA collect this information as actual, not predominant, values. This information is essential in issues regarding pipe integrity, and is a necessary component in determining the allowable operating pressure of a pipeline. The list of pipe grades is available in the NPMS Operator Standards (Appendix A). Operators are welcome to submit either actual or predominant (90% of pipe segment) values.

F. Pipe Join Method

PHMSA proposed operators submit data on the pipe join method. Operators will indicate whether pipes within the segment were welded, coupled, screwed, flanged, used plastic pipe joints, or other.

AGA asked that an option be added to submit the predominant value for this data. TransCanada opposed collecting this attribute. The Texas Pipeline Association and commenter Molly Wolf asked that an “unknown” choice be added. PHMSA will include the requested “unknown” choice. PHMSA analysts and inspectors would use this information to identify high-risk joining methods and will be used in PHMSA's risk rankings and evaluations. These models are used to determine pipeline inspection priority and frequency.

G. Seam Type

PHMSA proposed operators submit data on the seam type of each pipe segment. Options include: SMLS = Seamless, LFERW = Low frequency or direct current electric resistance welded, HFERW = High frequency electric resistance welded, UNKERW = Electric resistance welded with unknown frequency (possible if made around 1970), DSAW = Double side submerged arc weld, SSAW = Single side submerged arc weld, SPRSAW = Spiral single side submerged arc weld, EFW = Flash weld, LAPW = Lap weld, FBW = Furnace butt weld, PLAS = Plastic or OTHER = Other unlisted seam type, UNK = Unknown seam type.

Spectra Energy Partners supported inclusion of this attribute. TransCanada opposed collection, and commenter Molly Wolf recommended adding an “unknown” option.

PHMSA intends to collect this information with the possibility of limiting it to Classes 3, 4, and HCAs. An “unknown” option has been added. This information is used to determine which type of integrity management inspection assessment should apply, is important for risk analysis due to certain time-dependent risky seam types (e.g. LFERW), and is used to confirm MAOP/MOP.

H. Onshore/Offshore

PHMSA proposes operators designate whether a pipe segment is onshore or offshore.

Spectra Energy Partners and TransCanada were supportive of collecting this attribute and asked that PHMSA issue a clear definition of “offshore.”

PHMSA will move forward with this attribute as originally proposed. PHMSA directs operators to the definition of an offshore pipeline found in §§ 191.3 and 195.2: “Offshore means beyond the line of ordinary low water along that portion of the coast of the United States that is in direct contact with the open seas and beyond the line marking the seaward limit of inland waters.” Frequently, comparisons between the NPMS (PHMSA-generated) offshore mileage statistics and operator-generated annual report offshore mileage statistics do not match. This collection will allow PHMSA to standardize and compare the statistics for regulatory purposes.

I. Inline Inspection (Yes/No)

PHMSA originally proposed that operators indicate whether their system is capable of accommodating an ILI tool. INGAA, Spectra Energy Partners, and Transcanada supported collection of this attribute. AGA opposed collection. APGA asked that PHMSA clarify it was not requiring operators of transmission pipelines to make modifications to pipelines to accommodate ILI tools. A comment from the November 2015 Operator Workshop was to make this attribute predominant.

PHMSA intends to collect this information as originally proposed. This attribute is not collected on a predominant basis on the Annual Reports, so PHMSA will not accept this attribute on a predominant basis on the NPMS submission. For the purpose of this information collection, this attribute denotes whether a line is capable of accepting an inline inspection tool with currently available technology. There is no attached mandate to modify the pipeline so that it can accommodate ILI tools. ILI information is useful for tracking progress related to NTSB recommendations P-15-18 and P-15-20 which recommend that all natural gas transmission pipelines be capable of being in-line inspected and that PHMSA “identify all operational complications that limit the use of in-line inspection tools in piggable pipelines.”

J. Class Location

Operators of gas transmission pipeline segments will be required to submit information on class location (§ 192.5) at the segment level.

PHMSA received four comments on this attribute (from AGA, Southwest Gas Association, Spectra Energy Partners, and Texas Pipeline Association) which were generally positive.

PHMSA intends to collect this information as originally proposed. This information is a critical measure of population risk, and is necessary to ensure that integrity management rules are properly applied to high-risk areas. Survey requirements vary based on class location, and this data is valuable for prioritizing, planning, and conducting inspections.

K. Gas HCA Segment

PHMSA proposed gas transmission operators identify HCA pipe segments as defined by § 192.903. AGA, INGAA, Southwest Gas Association, Spectra Energy Partners, Transcanada, and Texas Pipeline Association supported collecting data regarding Gas HCAs.

PHMSA intends to move forward with the Gas HCA segment attribute as originally proposed. This information will help emergency responders identify pipelines with greater potential for significant damage. Additionally, these attributes identify pipelines subject to integrity management procedures. PHMSA has explicit statutory authority to map high-consequence assets under 49 U.S.C. 60132(d). Gas operators are only expected to submit information on whether or not that segment is an HCA segment as defined in § 192.903.

L. Segment Could Affect a High Consequence Area (HCA)

PHMSA proposed hazardous liquid operators identify pipe segments which could affect HCAs as defined by § 195.450. Pipe segments can be classified as affecting or not affecting each of the following: a “highly populated area,” an “other populated area,” an Ecological Unusually Sensitive Area (USA), a Drinking Water USA, and a Commercially Navigable Waterway. See Appendix A of the NPMS Operator Standards for definitions. Spectra Energy Partners and the Texas Pipeline Association supported this attribute, while Transcanada opposed it.

PHMSA intends to move forward with the “could affect HCA” attributes as originally proposed, noting that it only applies to hazardous liquid pipeline segments. This information will help emergency response planners identify pipelines with greater potential for significant damage. Additionally it identifies pipelines subject to integrity management procedures. PHMSA has explicit statutory authority to map high-consequence assets under 49 U.S.C. 60132(d), and NTSB recommendation P-15-5 states that PHMSA should “revise the submission requirement to include HCA identification as an attribute data element to the National Pipeline Mapping System.” This information will be secured by limiting access to government officials to mitigate potential security risks. Because of its unique sensitivity, the Drinking Water USAs when contained in NPMSA are considered SSI per PHMSA's consultations with TSA. See Section 4.D for additional details on security levels for each attribute.

M. Facility Response Plan Sequence Number, if Applicable

PHMSA proposed operators submit the Facility Response Plan sequence number for applicable liquid pipeline segments according to Part 194. This is a 4 digit number (i.e., 0003) that is assigned by PHMSA and provided to the operator in the Letter of Approval for the submitted facility response plan. PHMSA will not collect the Control Number attribute because it is no longer used to identify a FRP. There was no significant commenter opposition to collecting this information.

PHMSA intends to move forward with this attribute as originally proposed. Access to the relevant facility response plan sequence number through NPMS would be beneficial to first responders in an emergency situation, especially in areas with multiple pipeline facilities. Furthermore, this would greatly reduce the workload of regional offices and even operators tasked with ensuring compliance with response plan regulations. Mapping the FRP sequence numbers allows PHMSA and its partners to identify gaps in compliance, assists with facility response plan reviews and approvals, and enables PHMSA to determine the applicable FRP for any given pipe in the NPMS. Since applicable liquid operators are required to have this information, PHMSA believes it should be minimally burdensome to submit it.

N. Abandoned Pipelines

PHMSA proposed that all gas transmission and hazardous liquid pipelines abandoned after the effective date of this information collection be mandatory submissions to the NPMS. Abandoned pipelines are defined as those that are “permanently removed from service” according to §§ 192.3 and 195.2. Abandoned lines are not currently required to be submitted to the NPMS unless they are offshore or cross a Commercially Navigable Waterway (note that these two types of abandoned lines also require a certification of abandonment). Operators would only need to submit this data in the calendar year after the abandonment occurs. This data element will be submitted by marking the pipe segment with a “B” in the STATUS_CD field, symbolizing abandonment.

AGA and Spectra Energy Partners supported the inclusion of this attribute for newly abandoned lines only. The GPA opposed collection, citing concerns over retaining records for which pipeline operators are no longer responsible. In response, PHMSA notes its Letter of Interpretation PI-08-0003 states abandoned facilities are still subject to PHMSA jurisdiction, even if they are no longer subject to certain PHMSA regulations. Also, 49 CFR 192.727(g)(1) and 195.59(a) already allow for PHMSA to collect information regarding certain abandoned facilities as part of the NPMS. Last, as noted above, data regarding abandoned facilities collected under this information collection is only required to be submitted in the first calendar year after the abandonment occurs.

PHMSA intends to move forward with this attribute as originally proposed. This information is important for PHMSA inspections, particularly to enforce proper abandonment procedures. PHMSA inspectors have identified incidents in the past involving lines which had been mischaracterized as abandoned (i.e. still containing a commodity). Additionally, there is a high level of public interest in this information. Since operators are already required to map their lines, PHMSA believes that identifying recently abandoned segments is not exceedingly burdensome.

O. Maximum Allowable Operating Pressure/Maximum Operating Pressure

PHMSA proposed that operators submit the maximum MAOP or MOP for a pipeline segment in pounds per square inch gauge.

PHMSA received comments in support of including this attribute from Spectra Energy Partners and Transcanada. AGA, Texas Pipeline Association, and an individual commenter opposed collection of this attribute. AGA noted that, combined with the Highest Percent Operating SMYS attribute, this attribute would increase the burden on operators. Texas Pipeline Association noted that, without full knowledge of how the MAOP/MOP was established, this attribute could lead to faulty conclusions in assessing risk. PHMSA intends to collect this information. While superficially similar to percent SMYS, MAOP/MOP is not identical and captures different elements of pipeline risk. Specifically, PHMSA inspectors identified it as an important element for incident analysis. MAOP/MOP helps enforce pressure levels between segments which are rated for different pressures. PHMSA engineers further noted that it is useful for determining the potential impact radius. This information when contained in the NPMS system is considered SSI per PHMSA's consultations with TSA.

P. Pump and Compressor Stations

PHMSA proposes operators submit a geospatial point file containing the centroid of the dedicated property location of pump (for liquid operators) and compressor (for gas transmission operators) stations. Appendix A2 in the NPMS Operator Standards contains technical details on submitting this information. API/AOPL, TransCanada, and the American Fuel and Petrochemical Manufacturers opposed this data collection due to security concerns.

PHMSA intends to move forward with this attribute as originally proposed. Pump and compressor stations are vulnerable areas, and emergency responders and planners need to know their locations for adequate emergency planning. Proximity to a compressor station has also been known to influence the level of stress on nearby segments, making this information valuable for prioritizing inspection resources. Additionally, the stations are often referenced as inspection boundaries for PHMSA's inspectors. Regarding security concerns, this information when contained in the NPMS system is considered SSI per PHMSA's consultations with TSA.

Q. Mainline Block Valves

PHMSA will collect mainline block valve locations and associated attributes as described in the NPMS Operator Standards Manual, Appendix A3. Valve location can assist emergency responders when working with pipeline operators during an emergency, and it is useful to PHMSA inspectors and partners to identify vulnerable points along a pipeline. Commenters AGA, Transcanada, Texas Pipeline Association, and Energy Transfer Partners opposed collecting this attribute, citing the sensitivity of the data as a concern. AGA proposed that only emergency valve locations be collected. PHMSA agrees that this dataset is sensitive and is considered SSI per PHMSA's consultations with TSA.

R. Breakout Tanks

PHMSA proposed to require the submission of breakout tank data. This is currently an optional submission; this revision would make it mandatory. PHMSA received positive comments from Texas Pipeline Association and Spectra Energy Partners. TransCanada opposed collection of this attribute.

PHMSA intends to proceed with this attribute as originally proposed. As detailed in Appendix A8 of the NPMS Operator Standards Manual, this information will be stored as a point for each tank. Please note that the operator contact information that was previously collected in optional breakout tank submissions has been removed, as it is already collected in the operator's transmittal letter which accompanies his/her submission. As well, the commodity codes and revision codes have been updated to match annual report codes and existing NPMS codes, and a clarifying note has been added to the TANKSIZE attribute. The breakout tank data helps inspectors locate individual tanks because a tank farm may contain both breakout tanks and other tanks.

S. Additional Liquefied Natural Gas Plant Attributes and Features

PHMSA proposed to collect additional data attributes and features for liquefied natural gas (LNG) plants used in or affecting interstate commerce (under PHMSA's jurisdiction). The new attributes include type of plant, year constructed and capacity; the new features are impoundments and exclusion zones. PHMSA received positive comments from Texas Pipeline Association and Spectra Energy Partners. Appendices A5-A7 of the NPMS Operator Standards Manual contain technical details on submitting.

PHMSA intends to proceed with this information as originally proposed. The new LNG attributes and features will be protected by limiting access to government officials.

Geospatial information on the location and characteristics of LNG plants helps PHMSA and emergency responder better understand potential safety risks on a national and local level, respectively, and provides location data which is not submitted on the Annual Report.

IV. General Comments

A. Reporting

INGAA, API/AOPL, AGA, and GPA submitted comments indicating that some of the proposed attributes appear to be duplicative of information that PHMSA already collects, especially from the annual reports. PHMSA acknowledges that some of the proposed attributes are also collected on the annual report forms. Over time, PHMSA has noticed that there are often discrepancies between the data submitted to the NPMS and the data that is recorded in the annual reports. Data quality is a top priority to PHMSA and its stakeholders. PHMSA plans to use to the geospatial data to corroborate and to fill in any holes that exist in the data collected via the annual reports.

B. Burden

A number of operators commented highlighting the expected burden of the proposed revisions to the information collection. Comments submitted by INGAA, API TPA, Ameren, and MidAmerican claimed that PHMSA greatly underestimated the expected burden of this revision. AGA, Ameren Illinois, Laclede Gas Co. and TransCanada noted that a high regulatory burden could divert resources from other safety initiatives such as integrity management and infrastructure replacement activities. Intermountain, Avista, Ameren Missouri, Ameren Illinois, Southwest Gas, AGA, and INGAA noted that many of the proposed changes were beyond the capability of their existing GIS, and would require resources to upgrade systems and hire individuals to convert non-GIS or paper records to an appropriate format.

PHMSA understands the concerns regarding the expected burden of this collection and proposes operators use a phased-approach to submit the data requested. PHMSA has agreed to give operators up to seven (7) years to submit positional accuracy data. We believe this to be the heaviest of burdens associated with this collection and hope that, by giving operators more time to plan and allocate resources; this timeframe reduces the annual associated burden significantly.

During the comment period, many operators provided a list of attributes that they would not take objection to sending. PHMSA believes that operators currently have many of these attributes in their GIS systems. For this reason, PHMSA requests that these attributes be submitted during Phase 1 of this information collection. PHMSA understands that some attributes will require additional layers of data before they can be extracted and submitted to the NPMS. PHMSA would not require submission of those particular attributes until Phase 2 of this information collection.

C. Authority

INGAA, AGA, API/AOPL, and CenterPoint Energy submitted comments suggesting that certain aspects of the proposal exceed what is considered acceptable for an information collection regulated under the Paperwork Reduction Act, and that it should have been considered as a rulemaking. These comments were received in response to the public notice published in the Federal Register on August 27, 2015, (80 FR 52084).

The “Pipeline Safety, Regulatory Certainty, and Job Creation Act of 2011,” (the 2011 Act) (Public Law No: 112-90), was enacted “to provide for enhanced safety and environmental protection in pipeline transportation,” and “to provide for enhanced reliability in the transportation of the Nation's energy products by pipeline.” To facilitate this goal of providing for enhanced safety of transporting energy products via pipeline, Section 11 of the 2011 Act amended 49 U.S.C. 60132, (National pipeline mapping system), to require an operator of a pipeline facility, (except distribution lines and gathering lines), to provide to the Secretary of Transportation particular information including, “any other geospatial or technical data, including design and material specifications, that the Secretary determines are necessary to carry out the purposes of this section. The Secretary shall give reasonable notice to operators that the data are being requested.” 49 U.S.C. 60132(a)(4).

Therefore, under § 60132, PHMSA has the authority as delegated from the Secretary, to request submission of this data as an information collection pursuant to the procedural requirements under the Paperwork Reduction Act, 44 U.S.C. 3501 et seq., and a rulemaking under the Administrative Procedure Act is not required, so long as reasonable notice is given.

With regard to the statutory requirement to provide reasonable notice to operators that the data are being requested, PHMSA issued two information collection notices in the Federal Register providing 60-day comment periods each on July 30, 2014, (79 FR 44246), and August 27, 2015 (80 FR 52084) respectively, issued notices extending the comment periods for these, held a public meeting on November 17, 2014, (79 FR 65295), September 10, 2015, (80 FR 52084), and a technical workshop on November 25, 2015 (80 FR 65286), (information about the November 25, 2015 public workshop can be found at https://primis.phmsa.dot.gov/meetings/MtgHome.mtg?mtg=107). Therefore, PHMSA has provided a number of advance notifications and opportunities to provide comments.

API/AOPL further commented that the NPMS is intended for public awareness, rather than for other roles such as risk management. Section 60132(d) requires the Secretary to maintain as part of NPMS a map of designated high-consequence areas in which pipelines are required to meet integrity management program regulations, therefore implying the NPMS is to be used for pipeline safety purposes beyond public awareness and emergency response. In addition to public awareness and information to improve emergency response capabilities, PHMSA considers this data as valuable for a number of purposes described in the Background section of this notice.

The GPA submitted comments requesting clarification as to the facilities to which this information collection applies. In response to these comments, PHMSA states the requirements of this information collection apply only to facilities subject to 49 CFR parts 192, 193, and 195.

The GPA also respectfully suggests that providing information regarding the location of refineries, processing plants, and treatment facilities is not within PHMSA's current purview. PHMSA would note that any facility where natural gas or hazardous liquids arrive and depart by pipeline are part of the pipeline transportation system. While there may be equipment on the grounds of such a facility that is unregulated under Parts 192 or 195, such as storage wells and processing or treatment equipment, it does not mean that the entire facility is “non-jurisdictional.” PHMSA collects information consistent with its mission to ensure pipeline safety. PHMSA does not collect information that has no relevance to pipeline and storage operations. With respect to refineries used in the petroleum industry, they are non-jurisdictional to PHMSA and we are not proposing to collect information on refineries except that reporting the location of a particular pipeline that ends at a refinery necessarily imparts ancillary information on the location of the refinery. In any event we do not believe the GPA's members generally include refineries.

D. Data Security

PHMSA understands that the new data elements have varying degrees of sensitivity, and that some are highly sensitive when contained in the NPMS system. PHMSA has discussed the appropriate security categorization for the new data elements with TSA and has reviewed all comments regarding security submitted during the two 60-day notice comment periods.

The following new data elements when contained in the NPMS system are considered SSI (Sensitive Security Information). These elements will be kept in an SSI-compliant environment at PHMSA. PHMSA would only release this information to covered persons with a need to know the information, as defined in 49 CFR part 15.

SSI Elements

• Percent SMYS

• MAOP/MOP

• Segment “could affect” a Drinking Water USA

• Pump and compressor stations

• Gas storage fields

• Mainline block valves

The elements in the list below are proposed to be restricted to government officials by inclusion in the Pipeline Information Management and Mapping Application (PIMMA), on www.npms.phmsa.dot.gov. PIMMA is password-protected and available only to government officials (who may see their area of jurisdiction). All PIMMA users are vetted to confirm their identity and employment before a password is issued. Pipeline operators may gain access to PIMMA but they will see only the pipelines they operate. The elements below may also be provided in shapefile or geodatabase format to requesting government officials upon verification of identity and employment, and receipt of a signed letter consenting to PHMSA's data security policy.

Elements Restricted to Government Officials

• Pipe diameter

• Commodity detail

• Pipe grade

• Seam type

• Decade of installation

• Wall thickness

• Inline inspection (yes/no)

• Class location

• Gas HCA segment

• Segment “could affect” a Highly Populated Area, Other Populated Area, Ecological USA, or Commercially Navigable Waterway

• Assessment method

• Assessment year

• Coated/uncoated

• FRP sequence number

• The proposed new LNG plant attributes (type of plant, total capacity, year constructed, impoundments, and exclusion zones)

• Breakout tank capacity

The following elements are proposed to be displayed on the NPMS Public Viewer, which can be accessed by the general public. The current extent (one county per session) and zoom level (no closer than 1:24,000) restrictions will remain in place.

Public Viewer Elements

• Pipe material

• Pipe join method

• Onshore/offshore

• Abandoned lines

• LNG plant locations and attributes not listed under the “elements restricted to government officials” section

• Breakout tank locations and attributes (excluding capacity)

E. Industry Counter-Proposals

Industry groups AGA, INGAA, API, and AOPL submitted comments which included alternative plans for revisions to the NPMS. These plans included support for a limited number of data elements in the 2015 Federal Register notice. The table below shows the elements supported by the counter-proposals.

Data element | Supported in counter-proposal
Diameter | AGA, INGAA, API, AOPL.
Commodity detail | AGA.
Pipe material | AGA, INGAA, API, AOPL.
Highest percent operating SMYS | AGA.
Decade of installation | AGA.
Wall thickness | API, AOPL.
Inline inspection (yes/no) | INGAA.
Class location | AGA.
Gas HCA segment | AGA, INGAA.
Segment “could affect” an HCA | INGAA.
Coated/uncoated (yes/no only) | AGA, INGAA.

PHMSA finds that all sets of attributes proposed by industry groups are inadequate to meet PHMSA's risk assessment and emergency planning goals as well as mandates from Congress and recommendations from NTSB. The next section provides a table showing the new data elements which will fulfill the recommendations and mandates.

F. Mandates and Recommendations

In additional to satisfying DOT mission needs, PHMSA mission needs, PHMSA internal group needs, PHMSA partner needs and PHMSA stakeholder needs, this Information Collection is gathering geospatial information which will be used to fulfill Congressional mandates and National Transportation Safety Board (NTSB) recommendations. These mandates and recommendations include:

• NTSB 15-4: Increase the positional accuracy of pipeline centerlines and pipeline attribute details relevant to safety in the National Pipeline Mapping system.

• NTSB 15-5: Revise the submission requirement to include high consequence area identification as an attribute data element to the National Pipeline Mapping System.

• NTSB 15-8: Work with the appropriate federal, state, and local agencies to develop a national repository of geospatial data resources for the process for High Consequence Area identification, and publicize the availability of the repository.

• NTSB 15-22: Develop and implement a plan for all segments of the pipeline industry to improve data integration for integrity management through the use of geographic information systems.

• Pipeline Safety, Regulatory Certainty, and Job Creation Act of 2011, Section 11: Any other geospatial or technical data, including design and material specifications, that the Secretary determines are necessary to carry out the purposes of this section. The Secretary shall give reasonable notice to operators that the data are being requested.

The following table shows the applicable data elements.

Mandate or recommendation | Information collection data element(s)
NTSB 15-4 | Positional accuracy, Diameter, Commodity detail, SMYS, MAOP/MOP, Seam type, Decade of installation, Wall thickness, Pipe join method, Inline Inspection y/n, Class location, Gas HCA segment, Segment “could affect” an HCA, Coated/uncoated.
NTSB 15-5 | Class location, Gas HCA segment, Segment “could affect” an HCA.
NTSB 15-8 | Class location, Gas HCA segment, Segment “could affect” an HCA.
NTSB 15-22 | Pipe material, SMYS, MAOP/MOP, Seam type, Wall thickness, Pipe join method, Inline Inspection y/n, Year of last ILI inspection, Coated/uncoated, Pressure test.
Pipeline Safety, Regulatory Certainty, and Job Creation Act of 2011, Section 11 | Diameter, Pipe material, SMYS, Seam type, Wall thickness, Pipe join method, Inline Inspection y/n.

G. Definitions

Several commenters, as well as attendees of the November 2015 Operator Workshop, expressed serious concerns about the use of the word “predominant.” These concerns centered on how the usage of predominant attributes is poorly defined, difficult to verify compliance with, and risks improper categorization of pipeline risk. From a technical standpoint, operators indicated it was more difficult for them to generalize values into a “predominant” value than to submit actual values. For these reasons, submitting a “predominant” value will always be optional. Appendix A of the NPMS Operator Standards details the data elements for which “predominant” is an option.

V. Timeline for Collection of New Data Elements

PHMSA has heard operators' and industry's concerns regarding the amount of time needed to compile, research, and/or prepare the data required for this information collection. PHMSA will collect the new data elements in three phases. Phase 1 data will be collected the first submission year after the effective date, Phase 2 data will be collected the second submission year after the effective date, and Phase 3 data will be collected in 2024. The data elements in each phase are listed below:

Phase 1

• Pipe diameter

• Commodity detail

• Pipe material

• Pipe grade

• Wall thickness

• Pipe joining method

• MAOP/MOP

• SMYS

• Seam type

• Onshore/offshore

• Inline inspection (yes/no)

• Class location

• Gas HCA segment

• FRP sequence number

• Abandoned pipelines

• Pump and compressor stations

• Breakout tanks

• LNG plants

Phase 2

• Decade of installation

• Segment could affect an HCA

• Assessment method

• Assessment year

• Coated (yes/no)

• Gas storage fields

• Mainline block valves

Phase 3

• Positional accuracy conforms with new standards (note that operators are encouraged to submit their centerlines with the new accuracy standard as the data becomes available)

VI. Summary of Impacted Collection

The following information is provided for this information collection: (1) Title of the information collection, (2) OMB control number, (3) Current expiration date, (4) Type of request, (5) Abstract of the information collection activity, (6) Description of affected public, (7) Frequency of collection, and (8) Estimate of total annual reporting and recordkeeping burden. PHMSA requests comments on the following information collection:

Title: National Pipeline Mapping System Program.

OMB Control Number: 2137-0596.

Form Numbers: N/A.

Expiration Date: 6/30/2016.

Type of Review: Revision of a Previously Approved Information Collection.

Abstract: Each operator of a pipeline facility (except distribution lines and gathering lines) must provide PHMSA geospatial data for their pipeline system and contact information. The provided information is incorporated into NPMS to support various regulatory programs, pipeline inspections, and authorized external customers. Following the initial submission of the requested data, the operator must make a new submission to NPMS if any changes occur so PHMSA can maintain and improve the accuracy of the NPMS's information.

Respondents: Operators of natural gas, hazardous liquid, and liquefied natural gas pipelines.

Number of Respondents: 1,211.

Number of Responses: 1,211.

Frequency: Annual.

Estimate of Total Annual Burden: 171,983 hours.

Public Comments Invited: You are asked to comment on any aspect of this information collection, including: (a) Whether the proposed collection of information is necessary for the Department's performance; (b) the accuracy of the estimated burden; (c) ways for the Department to enhance the quality, utility and clarity of the information collection; and (d) ways that the burden could be minimized without reducing the quality of the collected information.

The agency will summarize and/or include your comments in the request for OMB's clearance of this information collection.

Authority: The Paperwork Reduction Act of 1995; 44 U.S.C. Chapter 35, as amended; and 49 CFR 1.48.

Issued in Washington, DC, on June 16, 2016, under authority delegated in 49 CFR 1.97.
Alan K. Mayberry,
Acting Associate Administrator for Pipeline Safety.

[FR Doc. 2016-14712 Filed 6-21-16; 8:45 am]

BILLING CODE 4910-60-P